DEPARTMENT OF HOMELAND SECURITY

Coast Guard

[Docket No. USCG-2024-0501]

Consideration for Acceptance of One or More Viability Testing Methods for Type Approval of Ballast Water Management Systems

AGENCY: Coast Guard, DHS.

ACTION: Notice of intent to prepare a Programmatic Environmental Impact Statement; notice of virtual scoping meetings; and request for comments.

SUMMARY: The Coast Guard, as the lead agency, announces its intent to prepare the Viability Testing Method Consideration for Acceptance Programmatic Environmental Impact Statement. Through this document, we will evaluate the potential environmental impact of the Coast Guard's Proposed Action to use the best available science to evaluate one or more viability testing methods submitted for consideration. Through this document, we will also evaluate, and potentially accept, methods that demonstrate that ballast water discharge meets U.S. ballast water discharge performance standards currently under development by the Environmental Protection Agency.

DATES: Comments must be submitted orally at one of the public meetings or in writing the online docket via https://www.regulations.gov on or before October 7, 2024. Virtual public meetings regarding this notice of intent will be held Thursday, September 5, 2024, at 12 p.m. EST, Tuesday, September 10, 2024 at 4 p.m. EST, and Wednesday, September 11, 2024 at 7 p.m. EST.

ADDRESSES: You may submit comments identified by docket number USCG-2024-0501 using the Federal Decision-Making Portal at https://www.regulations.gov. See the “Public Participation and Request for Comments” portion of the SUPPLEMENTARY INFORMATION section for further instructions on submitting comments.

FOR FURTHER INFORMATION CONTACT: For information about this document, call or email Commander Andrew Murphy, Coast Guard; telephone 202-372-1430; email CG-OES@uscg.mil.

SUPPLEMENTARY INFORMATION:

Public Participation and Request for Comments

We encourage you to submit comments and related material on preliminary alternatives to help the Coast Guard identify reasonable alternatives. We will consider all submissions and may adjust our final action based on your comments. If you submit a comment, please include the docket number for this notice, indicate the specific item of this document to which each comment applies, and provide a reason for each suggestion or recommendation.

Submitting comments. We encourage you to submit comments through the Federal Decision-Making Portal at http://www.regulations.gov. To do so, go to https://www.regulations.gov, type USCG-2024-0501 in the search box and click “Search.” Next, look for this document in the Search Results column, and click on it. Then click on the Comment option. If your material cannot be submitted using http://www.regulations.gov, contact the person in the FOR FURTHER INFORMATION CONTACT section of this document for alternate instructions.

Viewing material in docket. Public comments will be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Public Meeting

We plan to hold three virtual public scoping meetings to solicit feedback. At these meetings, the Coast Guard will present an overview of the Proposed Action and the environmental review process, followed by a period of listening to oral comments from the public. The Coast Guard will record all oral comments and respond to them in the Draft PEIS. The public meetings will be held virtually in Microsoft Teams at the following dates below. The public meetings can be accessed by either Microsoft Teams or by telephone.

Thursday, September 5, 2024

12:00 p.m. EST (4:00 p.m. UTC)

Meeting Link: https://tinyurl.com/CGVIDAVT1

Meeting ID: 242 571 871 890

Passcode: DD7bEW

Phone-in: +1 202-660-1181

Phone conference ID: 925 558 1#

Tuesday, September 10, 2024

4:00 p.m. EST (8:00 p.m. UTC)

Meeting Link: https://tinyurl.com/CGVIDAVT2

Meeting ID: 294 512 529 402

Passcode: 8wzmy4

Phone-in: +1 202-660-1181

Phone conference ID: 567 920 777#

Wednesday, September 11, 2024

7:00 p.m. EST (11:00 p.m. UTC)

Meeting Link: https://tinyurl.com/CGVIDAVT3

Meeting ID: 265 269 415 521

Passcode: jhEUSk

Phone-in: +1 202-660-1181

Phone conference ID: 125 105 712#

For information on facilities or services for individuals with disabilities or to request special assistance at the public meeting, contact the person named in the FOR FURTHER INFORMATION CONTACT section, above.

Abbreviations

ANS Aquatic nuisance species

ATP Adenosine triphosphate

BWMS Ballast Water Management System

CDNA Complementary DNA

CEQ Council on Environmental Quality

CMFDA 5-chloromethylfluorescein diacetate

CFR Code of Federal Regulations

DHS Department of Homeland Security

EIS Environmental Impact Statement

EPA Environmental Protection Agency

ETV Environmental Technology Verification

FDA Fluorescein diacetate

IMO International Maritime Organization

µm Micrometer

MPN Most probable number

NEPA National Environmental Policy Act

NOI Notice of Intent

PCR Polymerase chain reaction

PEIS Programmatic Environmental Impact Statement

qPCR Quantitative polymerase chain reaction

SDC-MPN Serial dilution culture most probable number

U.S.C. United States Code

USEPA United States Environmental Protection Agency

VIDA Vessel Incidental Discharge Act

Background

Currently, Coast Guard type approval is granted for ballast water management systems (BWMSs) that meet the live/dead standard under protocols described in title 46 of the Code of Federal Regulations (CFR) and the Environmental Protection Agency's (EPA's) Environmental Technology Verification (ETV) Program (EPA 2010), which include the use of cell tracing stains (such as fluorescein diacetate or (FDA) 5-chloromethylfluorescein diacetate (CMFDA), and do not include the use of viability tests. The Vessel Incidental Discharge Act (VIDA) of 2018 ¹ allows the Coast Guard to consider the use of viability tests for the type approval of BWMS and directs the Coast Guard to not consider methods for viability that rely on staining to measure the concentrations of organisms that are between (or equivalent to) 10 and 50 micrometers (µm).

¹ 132 Stat. 4192, Public Law 115-282, Dec. 4, 2018. See Sec. 903, Standards for Discharges Incidental to Normal Operation of Vessels.

This Notice of Intent (NOI) is intended to solicit feedback on the scope of the Programmatic Environmental Impact Statement (PEIS). The Coast Guard intends to host three virtual scoping meetings to provide additional information to the public and to solicit input on potential issues, concerns, and reasonable alternatives that should be considered in the PEIS.

Discussion

Congress, through enacting VIDA required the Coast Guard to consider adding “viability” of organisms as a way of testing compliance with ballast water discharge standards.

Ballast water is taken on by a vessel to increase the draft, change the trim, regulate the stability, or maintain stress loads within acceptable operational limits. Introduction of nonindigenous invasive species, also known as aquatic nuisance species (ANS), through ballast water discharge is a global concern. Ballast water discharge may contain water-borne organisms taken up at the last (or several recent) ballasting locations as well as water-borne organisms (especially eggs or larvae) that were produced by adult individuals in the ballast tank. Viable organisms that are discharged and become established in waters outside their native range may have adverse effects on native species and ecosystems, infrastructure, human health, socioeconomics, and other resources. Current regulation of ballast water (EPA's ETV protocol; ² USCG's 33 CFR part 151 subparts C and D) uses a live/dead metric to measure the concentration of living organisms in ballast water after treatment by a BWMS.

² Generic Protocol for the Verification of Ballast Water Treatment Technology, available in this docket.

VIDA defines a BWMS as rendering organisms “nonviable” if the organisms are “permanently incapable of reproduction following treatment.” (VIDA 2018, Clean Water Act section 312(p)(1)(U)). By adding “viability” of organisms as a way of testing compliance with ballast water discharge standards, this change broadened how compliance with ballast water discharge standards can be measured. In addition to counting whether organisms in ballast water discharge are alive, VIDA allows the possibility for a BWMS to meet EPA's ballast water standard by not counting organisms that are still alive but not reproductively viable.

The definitions in Title 33 of the United States Code section 1322 (33 U.S.C. 1322) of “live” and “living” as applied to current Coast Guard BWMS regulations do not address the instance of organisms that are alive but incapable of reproducing; thus, reproductively nonviable organisms count the same as viable living organisms. VIDA allows the Coast Guard to consider type approving BWMS that meet the standard by counting organisms that are alive but permanently nonviable the same as dead organisms, and in doing so to accept one or more viability test methods for use in type approving BWMS. EPA's final rule setting performance standards for ballast water has not been published yet ³, but VIDA stipulates that the Coast Guard consider viability as applied to the Coast Guard's current ballast water standard as well as EPA's future ballast water standard under VIDA.⁴

³ EPA's VIDA SNPRM was published October 18, 2023, 88 FR 71788. Federal Register: Vessel Incidental Discharge National Standards of Performance.

⁴ See Sec. 903 of VIDA (https://www.govinfo.gov/content/pkg/PLAW-115publ282/pdf/PLAW-115publ282.pdf) at 132 Stat. 4338.

The Coast Guard has determined that a PEIS is appropriate due to the wide geographic applicability, the various elements of uncertainty, and the potential for significant impacts of the Proposed Action. As such, we encourage you to comment upon the Proposed Action as a whole and provide information specifically on these four aspects: (1) the geographic areas that should be focused upon; (2) the uncertainties within the known viability test methods; (3) the ways to evaluate viability test methods; and (4) any viability test methods themselves that we may not have considered.

The Coast Guard's Proposed Action would have the potential to affect all navigable waters of the United States, including marine, estuarine, and freshwater environments. The scope of this action would include navigable waterways of the United States where discharge of ballast water is allowed, and waterways and adjacent areas that could be affected by such discharge. The following areas of uncertainty have been identified to date:

• No independently validated viability testing method exists that can accurately and precisely document the concentration of viable organisms in ballast water discharged under typical operational conditions throughout the Action Area;

• Innumerable organisms in ballast water discharge have not been identified or cultured in laboratories; and

• No BWMS has been proven to render all ANS discharged in ballast water as permanently nonviable.

Currently, no specific viability test method has been submitted to Coast Guard for evaluation; therefore, this PEIS will analyze the impacts of a reasonable range of potential viability testing methods that may be submitted for Coast Guard review, based upon testing methods gathered from the applicable scientific literature.

The PEIS is intended to be broad enough to represent the range of viability testing methods known to the Coast Guard at this time or likely to be submitted for Coast Guard review and acceptance. If a testing method that is not covered in the PEIS is submitted to the Coast Guard later, the Coast Guard may determine that additional National Environmental Policy Act (NEPA) analysis is warranted.

This NOI briefly summarizes the purpose and need for the Proposed Action, the Proposed Action itself, and the No Action Alternative. As required by NEPA and its implementing regulations (40 CFR 1502.3), a Federal agency must prepare an EIS if it is proposing a major Federal action with the potential for significant impacts. The NEPA process is designed to identify and consider reasonably foreseeable environmental effects of the proposed action and all reasonable alternatives, including the Proposed Action, and to receive public input on that analysis to inform the agency's decision.

Purpose and Need for the Proposed Action

The Coast Guard's Proposed Action is to potentially accept one or more viability testing method submitted to the Coast Guard. Using best available science, the Coast Guard would evaluate each proposed method and accept methods (if any) that can demonstrate that ballast water discharge treated by a U.S. type approved BWMS meets applicable U.S. ballast water discharge performance standards for viable organisms.

To evaluate each submitted viability testing method, the Coast Guard would accept or reject a submitted Viability Testing Method based upon best available science, as described in the Final Policy Letter, Type-Approval Testing Protocols for Ballast Water Management Systems That Render Organisms in Ballast Water Nonviable (87 FR 16641, March 24, 2022).⁵ In order to be accepted, a viability testing method would have to accurately quantify the concentration of viable organisms in a targeted size class remaining after the BWMS had either removed, killed, or rendered permanently nonviable other organisms in the ballast water discharge. The ultimate purpose of an accepted viability testing method is to reduce the probability that populations of ANS released in ballast water discharge become established in U.S. waters.

⁵ The final policy letter was effective February 28, 2022. A draft policy letter and request for comments were published on July 31, 2019 (84 FR 37330). The final policy letter is available in the docket.

Proposed Action and Alternative

The Coast Guard has identified a Proposed Action and a No Action Alternative. Under the Proposed Action, Coast Guard would consider, evaluate, and accept one or more viability testing methods submitted by a third party for use in type approval of one or more ballast water management systems. If a viability test method is accepted and used to type approve one or more ballast water management systems, living organisms that are deemed “permanently nonviable” would not count in measuring living organisms that are allowed to be discharged.

Typically, the No Action Alternative assumes that current conditions (without the Proposed Action) would be maintained. However, VIDA stipulates that existing EPA and Coast Guard ballast water regulations will remain in effect only until the EPA establishes new performance standards and the Coast Guard develops implementing regulations, which must occur as soon as practicable, but not later than 2 years of EPA's final rule.

Under the No Action Alternative, the Coast Guard would consider, evaluate, but not accept, any viability testing method, and thus the Coast Guard would continue to use the live/dead method of measuring compliance with the standard for type approval of BWMS.

In the case of accepting a viability test method, a ballast water discharge sample containing 30 individuals per mL (in the 10-50 micrometer (µm) size class) would be deemed compliant with the 10 individuals/mL discharge performance standard if 20 of the 30 individuals were deemed “permanently nonviable.” In this example, any uncertainty associated with the identification of an individual as “permanently nonviable” represents a potential exceedance of the standard. The U.S. Coast Guard currently uses the 3 methods described in EPA's ETV Protocol for US type approval of BWMS. One of these methods uses staining, and while that would still be used for live/dead test methods, staining would not be allowed under VIDA for viability test methods.

Culture methods used to measure viability in the three regulated bacteria would continue: United States Environmental Protection Agency (USEPA) Method 1603 for E. coli; modified version of USEPA Method 1106.1 for Enterococcus spp.; and a DNA colony blot hybridization method for V. cholera.

Under the No Action Alternative, living organisms in the 10-50 µm size class would continue to be detected using manual epifluorescence microscopy and staining; unstained but motile organisms would be counted as live. This test does not measure reproductive viability; all living organisms are presumed viable.

Under current testing methods for heterotrophic organisms greater than or equal to 50 µm, organisms are determined to be living based on motility analysis under magnification (at least 10 seconds observation, with prodding by the observer if necessary). All organisms classified as living would be assumed viable. Note that this test does not measure actual reproductive viability.

Proposed Action

VIDA explicitly requires that the Coast Guard “take into consideration a testing method that uses organism grow-out and MPN statistical analysis to determine the concentration of organisms in ballast water that are capable of reproduction” ⁶ and prohibits consideration of viability testing methods that rely on staining methods to measure the concentration of organisms in the 10-50 µm size class. Any accepted method will be used in land-based or shipboard testing (or both), so the method must be appropriate for type approval tests.

⁶ 132 Stat. 4338, Public Law 115-282, Dec. 4, 2018. See Sec. 903, Standards for Discharges Incidental to Normal Operation of Vessels.

Under the Proposed Action, the Coast Guard would use a Decision Framework to determine whether a proposed viability testing method were acceptable to use in type approving a BWMS. The Decision Framework was designed to meet the directive in VIDA that Coast Guard use best available science (BAS) to evaluate and accept any viability testing methods that can measure concentrations of organisms rendered permanently incapable of reproduction by the operation of a BWMS. All available information, if relevant to the intended output of a complete, standardized viability testing method to support BWMS type approval, will be assessed pursuant to the Coast Guard Decision Framework.

Table 2 lists viability testing methods that the Coast Guard is aware of from peer-reviewed published literature, International Maritime Organization (IMO) documents, public notices prepared by proponents or developers, or other indicators of potential use in measuring concentrations of viable organisms in ballast water discharge. For instance, several methods developed for or used in monitoring pathogens in drinking water have features that may make them suitable (with or without modification) for measuring viability of organisms in ballast water discharge.

Viability testing methods to be evaluated in this PEIS represent three stages of research and development for use in testing treated ballast water against U.S. or IMO D-2 standards: ⁷

⁷ IMO (2004) International convention for the control and management of ships' ballast water and sediments. International Maritime Organization, London.

1. Currently in use by Coast Guard or IMO;

2. Suggested in the peer-reviewed literature as potentially suitable; or

3. Under active research and development, with early results suggesting potential utility.

Table 1—Potential Viability Testing Methods for Coast Guard Evaluation
Viability test method | Target organisms | Brief description
Serial dilution culture most probable number (SDC-MPN) assay ¹ | 10-50 µm size class (Autotrophs) | SDC-MPN is a growth-based method that relies on the use of serial dilutions to track population growth over time, particularly in organisms with defined growth characteristics, like microalgae. The MPN culturing technique for protists was adapted from food microbiology laboratories for use in evaluating phytoplankton communities. It uses a 14-day grow-out period to quantify reproductively viable phytoplankton.
Most Probable Number Dilution Culture + Motility ¹ | 10-50 µm size (Heterotrophs) | The Heterotroph Method uses epifluorescence microscopy to identify and exclude from enumeration organisms that display the red fluorescence of chlorophyll, a diagnostic of photosynthetic autotrophs. The remaining organisms—those without detectable chlorophyll—are defined as heterotrophs. Heterotrophs that are observed to move are classified as living.
Microscopy ² (Standard, Epifluorescence, Variable fluorescence, Chlorophyll a fluorescence, Raman spectroscopy, Confocal Raman spectroscopy with near infrared excitation) | 10-50 µm and greater than or equal to 50 µm size classes | Direct observation of ballast water samples under magnification using stereo or compound microscopes. Specific types of microscopies use various light sources and sensors to enhance detection of cells and cell processes. Several indicative tests using variable fluorescence are commercially available.
Motility and fluorescence assay ³ | 10-50 µm and greater than or equal to 50 µm size classes | Automated system that counts motile and fluorescent organisms; indicative tests are available and under development.
Adenosine triphosphate (ATP) assay ³ | 10-50 µm size class | 1st Generation methods measure active ATP in the presence of luciferase enzyme. 2nd Generation ATP test method measures all living bacteria, culturable and non-culturable as well as autotrophs and heterotrophs. ATP assays are commercially available for indicative shipboard commissioning testing using the IMO D-2 standard.
Polymerase chain reaction (PCR) ³ |  | Several kinds of molecular methods based on PCR are used to detect live cells, including a molecular activity test and viability PCR, Messenger ribonucleic acid (mRNA) is a type of single-stranded RNA involved in protein synthesis. Because mRNA is synthesized by living cells during the process of transcription, the MVT measures changes in concentration of mRNA as an indicator of the cell's vitality. Reverse transcription PCR allows the use of RNA as a template to generate complementary deoxyribonucleic acid (cDNA). Using the reverse transcriptase enzyme, a single-stranded copy of cDNA is generated. This can then be amplified by a DNA polymerase, generating double-stranded cDNA, feeding into a standard PCR-based amplification process. Quantitative PCR (qPCR) is used to detect unwanted microbes (e.g., pathogens) and to identify DNA sequences used to classify the organisms in real time; qPCR methods generally use a fluorescent probe to quantify the DNA.
mRNA ³ | bacteria (less than 10 µm size class) and | Viable bacteria can be identified through mRNA, which exists only in molecularly active organisms. This tool is used in conjunction with reverse transcriptase PCR to reduce the time required to culture bacteria in food products.
mRNA ³ | 10-50 µm and greater than or equal to 50 µm size classes | In principle, an mRNA primer can be created for any organism for which adequate genetic Information is available, including chordates such as tunicates.
Notes:
¹ Test may be used for IMO type approval of all BWMS technologies (BWM.2/Circ.61/Rev.1 Annex).
² Various types of microscopies are currently used to identify living organisms in these size classes; reproductive viability cannot be determined through microscopy alone.
³ Theoretically suitable for viability testing method; research and development are ongoing.

Summary of Expected Impacts

NEPA requires the identification and evaluation of impacts to the human environment that are reasonably foreseeable because of the agency's Proposed Action. The analysis of potential impacts is based on potential changes in the concentrations of living ANS released in ballast water discharge in U.S. waters. Impacts of the Proposed Action would be manifested through the acceptance of a viability testing method and its use by the Coast Guard to type approve BWMS, and then the subsequent discharge from those BWMS into the Action Area.

The extent to which potential impacts would affect a given resource in a specific part of the Action Area would be influenced by complex interrelated variables independent of the Proposed Action. For example, impacts of ANS to U.S. ecosystems would be determined by the specific viable organisms released in specific locations under specific conditions that favor population establishment and growth; all these variables are dynamic and cannot be predicted quantitatively. Nevertheless, the Coast Guard can assign relative probabilities of occurrence of various impacts to resources in selected locations in the Action Area. Assumptions based on historical and current data on ballast water discharge volumes and locations, presence of ANS in ballast tanks under various conditions, known physiological responses of organisms to common BWMS, types of chemicals released in ballast water discharge, and other factors relevant to each resource will be considered in the PEIS.

The potential impacts of the Proposed Action could occur throughout the Action Area. The set of human and natural resources potentially affected by the Proposed Action is known as the affected environment. Resources that have some reasonably foreseeable chance of being affected by the Proposed Action somewhere in the Action Area, that may include ecosystems, socioeconomic factors, essential fish habitat, and managed species, Endangered Species Act-listed species, marine protected areas, water quality, air quality, cultural resources, migratory birds, human health, and the Coastal Zone Management Act.

Anticipated Permits and Authorizations

The Coast Guard will comply with all applicable Federal, State, and local laws. This includes, but is not limited to, the following:

• The Coastal Zone Management Act (16 U.S.C. 1451 et seq.)

• The Marine Mammal Protection Act (16 U.S.C 1361 et seq.)

• The Endangered Species Act (16 U.S.C. 1531 et seq.)

• Clean Water Act (33 U.S.C. 1251, et seq.)

• The National Historic Preservation Act (16 U.S.C. 470, et seq.)

• Clean Air Act (42 U.S.C. 7401, et seq.)

In addition, Coast Guard will complete Consultation with all affected Federally Recognized Tribes on a Government-to-Government basis in accordance with Executive Order 13175 (Consultation and Coordination with Indian Tribal Governments).

Schedule for the Decision-Making Process

Following the scoping period announced in this NOI, and after consideration of all comments received during the 45-day scoping period, the Coast Guard will prepare a draft PEIS for the Proposed Action to accept one or more viability testing methods for use in type approval of BWMSs. Once the draft PEIS is completed, it will be made available for a 45-day public review and comment period.

The Coast Guard will announce the availability of the draft PEIS in the Federal Register and other media outlets. The Coast Guard expects the draft PEIS will be available for public review and comment in 2024. In meeting the Council on Environmental Quality (CEQ) regulations generally requiring EISs to be completed within 2 years, the Coast Guard anticipates the final PEIS would be available in 2026. The final PEIS will respond to all comments received on the draft PEIS within the draft PEIS comment period. And we will publish a notice of availability in the Federal Register when we issue the PEIS. Should new information become available after the completion of the draft or final PEIS, supplemental NEPA documentation may be prepared in support of new information or changes in the Proposed Action considered under the PEIS.

Public Scoping Process

This NOI initiates the scoping process, which guides development of the PEIS. The Coast Guard is seeking comments on the reasonably foreseeable environmental impacts that may result from the Proposed Action, accepting one or more viability test methods that would ultimately be used for type approval of BWMS. The Coast Guard is also seeking input on relevant information, studies, or analyses of any kind concerning impacts potentially affecting the quality of human health or the environment because of the Proposed Action and alternatives.

NEPA requires Federal agencies to consider environmental impacts that may result from a Proposed Action, to inform the public of potential impacts and alternatives, and to facilitate public involvement in the assessment process. The PEIS will include, among other topics, discussions of the purpose and need for the Proposed Action, a description of alternatives, a description of the affected environment, and an evaluation of the environmental impact of the Proposed Action and alternatives.

The Coast Guard intends to follow the CEQ regulations (40 CFR 1500 et. seq.), Department of Homeland Security (DHS) Directive Number 023-01, Rev. 01, and Instruction 023-001-01, Rev. 01; and Coast Guard Commandant Instruction (COMDTINST) 5090.1, U.S. Coast Guard Environmental Planning Policy, by scoping through public comments. Scoping, which is integral to the process for implementing NEPA, provides a process to ensure that (1) issues are identified early and properly studied; (2) issues of little significance do not consume substantial time and effort; (3) the draft PEIS is thorough and balanced; and (4) delays caused by an inadequate PEIS are avoided.

Scope consists of the range and breadth of actions, alternatives, and effects to considered in an environmental impact statement or environmental assessment. The scoping process begins with publication of this NOI. The Coast Guard seeks to do the following during the scoping process:

• Invite the participation of Federal, State, and local agencies, any affected Federally Recognized Tribes, and other interested persons;

• Consult with affected Federally Recognized Tribes on a Government-to-Government basis in accordance with Executive Order 13175 and other policies. Concerns of Federally Recognized Tribes, including potential impacts on Treaty rights, Indian trust assets, and cultural resources, will be given appropriate consideration;

• Determine the scope and the issues to be analyzed in depth in the PEIS;

• Identify any related environmental assessments or environmental impact statements that are not part of the PEIS; and,

• Identify other relevant environmental review and consultation requirements, such as CZMA consistency evaluations, and threatened and endangered species and habitat impacts.

In accordance with the U.S. Coast Guard Environmental Planning Procedures,⁸ the Coast Guard will reach out to relevant agencies with jurisdiction by law or special expertise with respect to environmental issues in the project area.

⁸ Environmental Planning COMDTINST 5090.1 (series).

Pursuant to the CEQ regulations, Coast Guard invites public participation in the NEPA process. This NOI requests public participation in the scoping process, establishes a public comment period, and provides information on how to participate.

The public will be provided with an opportunity to review and comment on the draft PEIS. Comments received during the draft PEIS review period will be available in the public docket (where indicated under the Public Participation and Request for Comments portion of this notice) and made available in the final PEIS.

The 45-day public scoping period begins August 21, 2024 and ends October 7, 2024. Comments and related material submitted to the online docket via https://www.regulations.gov/ must be received by the Coast Guard on or before October 7, 2024. Comments may also be provided at one of the public meetings referenced in the Public Participation and Request for Comments portion of the SUPPLEMENTARY INFORMATION section of this notice.

We request your comments on environmental concerns that you may have related to the PEIS. This includes suggesting analyses and methodologies for use in the PEIS or possible sources of data or information not included in the draft PEIS. Your comments will be considered in preparing the final PEIS.

This notice is issued under authority of 42 U.S.C. 4332.

Dated: August 6, 2024.
W.R. Arguin,
Rear Admiral, U.S. Coast Guard, Assistant Commandant for Prevention Policy.

[FR Doc. 2024-18597 Filed 8-20-24; 8:45 am]

BILLING CODE 9110-04-P